SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before October 16, 2000.

ADDRESSES: Send all comments regarding whether this information collection is necessary for the proper performance of the function of the agency, whether the burden estimate is accurate, and if there are ways to minimize the estimated burden and enhance the quality of the collection, to Jane Palsgrove Butler, Associate Administrator, Office of Financial Assistance, Small Business Administration, 409 3rd Street, SW, Suite 8300, Washington, DC 20416

FOR FURTHER INFORMATION CONTACT: Stephen Kucharski, Financial System Specialist 202-205-7551 or Curtis B. Rich, Management Analyst, 202-205-7030.

SUPPLEMENTARY INFORMATION:

Title: “SBA Loan Application.”

Form No: 4M.

Description of Respondents: Participating Lenders, Certified Development Companies, and Small Businesses.

Annual Responses: 60,000.

Annual Burden: 10,000.

Curtis B. Rich,
Acting Chief, Administrative Information Branch.

[FR Doc. 00-20871 Filed 8-16-00; 8:45 am]

BILLING CODE 8025-01-P